DEPARTMENT OF COMMERCE

Patent and Trademark Office

Agency Information Collection Activities; Submission to the Office of Management and Budget (OMB) for Review and Approval; Comment Request; Trademark Post Registration

AGENCY: United States Patent and Trademark Office, Department of Commerce.

ACTION: Notice of information collection; request for comment.

SUMMARY: The United States Patent and Trademark Office (USPTO), as required by the Paperwork Reduction Act of 1995, invites comments on the extension and revision of an existing information collection: 0651-0055 (Trademark Post Registration). The purpose of this notice is to allow 60 days for public comment preceding submission of the information collection to OMB.

DATES: To ensure consideration, comments regarding this information collection must be received on or before September 23, 2024.

ADDRESSES: Interested persons are invited to submit written comments by any of the following methods. Do not submit Confidential Business Information or otherwise sensitive or protected information.

• Email: InformationCollection@uspto.gov. Include “0651-0055 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email at Catherine.Cain@uspto.gov with “0651-0055 comment” in the subject line. Additional information about this information collection is also available at http://www.reginfo.gov under “Information Collection Review.”

SUPPLEMENTARY INFORMATION:

I. Abstract

The United States Patent and Trademark Office (USPTO) administers the Trademark Act (Act), 15 U.S.C. 1501 et seq., which provides for the federal registration of trademarks, service marks, collective trademarks and service marks, collective membership marks, and certification marks. Individuals and businesses that use or intend to use such marks in commerce may file an application to register their marks with the USPTO.

This information collection covers various communications submitted by individuals and businesses to the USPTO after the registration of a trademark. One type of communication is a request to amend a registration to delete goods or services that are no longer being used by the owner. Registered marks remain on the register for 10 years and can be renewed, but will be cancelled unless the owner files with the USPTO a declaration attesting to the continued use (or excusable non-use) of the mark in commerce, and a renewal application, with specific deadlines. Owners may also request to amend or divide a registration, respond to a post-registration office action, and surrender a registration.

The regulations implementing the Act are set forth in 37 CFR part 2. These regulations mandate that each register entry include the mark, the goods and/or services in connection with which the mark is used, ownership information, dates of use, and certain other information. The information in this information collection is used to maintain the quality of the trademark register. The register may be accessed by an individual or by businesses to determine the availability of a mark. By keeping the register current and accurate, parties may reduce the possibility of initiating use of a mark previously adopted by another.

II. Method of Collection

Items in this information collection must be submitted electronically. In limited circumstances, registrants may also be permitted to submit the information in paper form by mail or hand delivery.

III. Data

OMB Control Number: 0651-0055.

Forms:

• PTO-1563 (Declaration of Use of Mark in Commerce Under Section 8)

• PTO-1573 (Declaration of Incontestability of a Mark Under Section 15)

• PTO-1583 (Combined Declaration of Use and Incontestability Under Sections 8 and 15)

• PTO-1597 (Section 7 Request)

• PTO-1963 (Combined Declaration of Use of Mark in Commerce and Application for Renewal of Registration of a Mark Under Sections 8 and 9)

• PTO-2302 (Response to Office Action for Post-Registration Matters)

• PTO-2309 (Surrender of Registration for Cancellation)

• PTO-2310 (Request to Divide Registration)

• PTO-2311 (Section 12(c) Affidavit)

Type of Review: Extension and revision of a currently approved information collection.

Affected Public: Private sector.

Respondent's Obligation: Required to obtain or retain benefits.

Estimated Number of Annual Respondents: 271,793 respondents.

Estimated Number of Annual Responses: 271,793 responses.

Frequency: On occasion.

Estimated Time per Response: The USPTO estimates that the responses in this information collection will take the public approximately between 12 minutes (0.20 hours) and 50 minutes (0.83 hours) to complete. This includes the time to gather the necessary information, create the document, and submit the completed request to the USPTO.

Estimated Total Annual Respondent Burden Hours: 162,987 hours.

Estimated Total Annual Respondent Hourly Cost Burden: $72,855,189.

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Declaration of Use of Mark in Commerce Under Section 8 | 67,809 | 1 | 67,809 | 0.58 (35 minutes) | 39,329 | $447 | $17,580,063
2 | Combined Declaration of Use of Mark in Commerce and Application for Renewal of Registration of a Mark Under Sections 8 and 9 | 94,584 | 1 | 94,584 | 0.58 (35 minutes) | 54,859 | 447 | 24,521,973
3 | Declaration of Incontestability of a Mark Under Section 15 | 1,341 | 1 | 1,341 | 0.20 (12 minutes) | 268 | 447 | 119,796
4 | Combined Declaration of Use and Incontestability Under Sections 8 and 15 | 75,796 | 1 | 75,796 | 0.58 (35 minutes) | 43,962 | 447 | 19,651,014
5 | Surrender of Registration for Cancellation | 600 | 1 | 600 | 0.20 (12 minutes) | 120 | 447 | 53,640
6 | Section 7 Request | 6,500 | 1 | 6,500 | 0.67 (40 minutes) | 4,355 | 447 | 1,946,685
7 | Response to Office Action for Post-Registration Matters | 22,000 | 1 | 22,000 | 0.83 (50 minutes) | 18,260 | 447 | 8,162,220
8 | Request to Divide Registration | 3,161 | 1 | 3,161 | 0.58 (35 minutes) | 1,833 | 447 | 819,351
9 | Section 12(c) Affidavit | 2 | 1 | 2 | 0.30 (18 minutes) | 1 | 447 | 447
Totals |  | 271,793 |  | 271,793 |  | 162,987 |  | 72,855,189
¹ 2023 Report of the Economic Survey, published by the Committee on Economics of Legal Practice of the American Intellectual Property Law Association (AIPLA); pg. F-41. The USPTO uses the average billing rate for intellectual property work in all firms which is $447 per hour (https://www.aipla.org/home/news-publications/economic-survey).

Estimated Total Annual Respondent Non-hourly Cost Burden: $103,718,072.

There are no capital start-up, maintenance costs, or recordkeeping costs associated with this information collection. However, the USPTO estimates that the total annual non-hour cost burden for this information collection, in the form of filing fees and postage, is $103,718,072.

Filing Fees

Filing fees are charged per class of goods or services and can vary depending on the number of classes. The filing fees shown here are based on the minimum fee of one class per document associated with this information collection.

Table 2—Filing Fees
Item No. | Fee code | Item | Estimated annual responses | Filing fee ($) | Non-hourly cost burden
|  |  | (a) | (b) | (a) × (b) = (c)
1 | 7205 | Declaration of Use of Mark in Commerce Under Section 8—Filed During the Statutory Period (electronic) | 61,644 | $225 | $13,869,900
1 | 6205 | Declaration of Use of Mark in Commerce Under Section 8—Filed During the Statutory Period (paper) | 1 | 325 | 325
1 | 7205, 7206 | Declaration of Use of Mark in Commerce Under Section 8—Filed During the Grace Period (electronic) | 6,163 | 325 | 2,002,975
1 | 6205, 6206 | Declaration of Use of Mark in Commerce Under Section 8—Filed During the Grace Period (paper) | 1 | 525 | 525
2 | 7201, 7205 | Combined Declaration of Use of Mark in Commerce and Application for Renewal of Registration of a Mark Under Sections 8 and 9—Filed During the Statutory Period (electronic) | 85,984 | 525 | 45,141,600
2 | 6201, 6205 | Combined Declaration of Use of Mark in Commerce and Application for Renewal of Registration of a Mark Under Sections 8 and 9—Filed During the Statutory Period (paper) | 1 | 825 | 825
2 | 7201, 7203, 7205, 7206 | Combined Declaration of Use of Mark in Commerce and Application for Renewal of Registration of a Mark Under Sections 8 and 9—Filed During the Grace Period (electronic) | 8,598 | 725 | 6,233,550
2 | 6201, 6203, 6205, 6206 | Combined Declaration of Use of Mark in Commerce and Application for Renewal of Registration of a Mark Under Sections 8 and 9—Filed During the Grace Period (paper) | 1 | 1,225 | 1,225
2 | 7211 | Issuing New Certificate of Registration (electronic) | 97 | 100 | 9,700
2 | 6211 | Issuing New Certificate of Registration (paper) | 1 | 200 | 200
2 | 7212 | Certificate of Correction, Registrant's Error (electronic) | 6,421 | 100 | 642,100
2 | 6212 | Certificate of Correction, Registrant's Error (paper) | 1 | 200 | 200
3 | 7208 | Declaration of Incontestability of a Mark Under Section 15 (electronic) | 1,340 | 200 | 268,000
3 | 6208 | Declaration of Incontestability of a Mark Under Section 15 (paper) | 1 | 300 | 300
4 | 7205, 7208 | Combined Declaration of Use and Incontestability Under Sections 8 and 15—Filed During the Statutory Period (electronic) | 68,905 | 425 | 29,284,625
4 | 6205, 6208 | Combined Declaration of Use and Incontestability Under Sections 8 and 15—Filed During the Statutory Period (paper) | 1 | 625 | 625
4 | 7205, 7206, 7208 | Combined Declaration of Use and Incontestability Under Sections 8 and 15—Filed During the Grace Period (electronic) | 6,890 | 525 | 3,617,250
4 | 6205, 6206, 6208 | Combined Declaration of Use and Incontestability Under Sections 8 and 15—Filed During the Grace Period (paper) | 1 | 825 | 825
6 | 7012 | Section 7 Request (electronic) | 6,499 | 250 | 1,624,750
6 | 6012 | Section 7 Request (paper) | 1 | 350 | 350
7 | 7012 | Deletion of Goods or Services after submission and prior to acceptance of a section 8 affidavit (electronic) | 2,805 | 250 | 701,250
7 | 6012 | Deletion of Goods or Services after submission and prior to acceptance of a section 8 affidavit (paper) | 1 | 350 | 350
8 | 7006 | Request to Divide Registration (electronic) | 3,160 | 100 | 316,000
8 | 6006 | Request to Divide Registration (paper) | 1 | 200 | 200
9 | 7210 | Section 12(c) Affidavit (electronic) | 1 | 100 | 100
9 | 6210 | Section 12(c) Affidavit (paper) | 1 | 200 | 200
Totals |  |  | 258,520 |  | 103,717,950

Postage Costs

In limited circumstances, applicants may be permitted to submit the information in paper form by mail or hand delivery. Applicants and registrants incur postage costs when submitting information to the USPTO by mail through the United States Postal Service (USPS). The USPTO estimates that 12 items will be submitted to the USPTO by mail. The USPTO estimates that the average postage cost for a mailed submission, using a Priority Mail legal flat rate envelope, will be $10.15. Therefore, the USPTO estimates the total mailing costs for this information collection at $122.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Lisa Lawn,
Director, Records and Information Compliance Program Office, Office of the Chief Administrative Officer, United States Patent and Trademark Office.

[FR Doc. 2024-16328 Filed 7-24-24; 8:45 am]

BILLING CODE 3510-16-P